DEPARTMENT OF THE INTERIOR

National Park Service

[NPS-WASO-NAGPRA-NPS0029192; PPWOCRADN0-PCU00RP14.R50000]

Notice of Inventory Completion: Pima County Office of the Medical Examiner, Tucson, AZ

AGENCY: National Park Service, Interior.

ACTION: Notice.

SUMMARY: The Pima County Office of the Medical Examiner (PCOME) has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the PCOME. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the PCOME at the address in this notice by December 27, 2019.

ADDRESSES: Dr. Bruce Anderson, Forensic Anthropologist, Pima County Office of the Medical Examiner, 2825 E District Street, Tucson, AZ 85714, telephone (520) 724-8600, email bruce.anderson@pima.gov.

SUPPLEMENTARY INFORMATION: Notice is here given in accordance with the Native American Graves Protection and Repatriation Act (NAGPRA), 25 U.S.C. 3003, of the completion of an inventory of human remains and associated funerary objects under the control of the Pima County Office of the Medical Examiner, Tucson, AZ. The human remains and associated funerary objects were removed from San Manuel, Pinal County, AZ.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the PCOME professional staff in consultation with representatives of the Ak-Chin Indian Community (previously listed as the Ak Chin Indian Community of the Maricopa (Ak Chin) Indian Reservation, Arizona); Fort McDowell Yavapai Nation, Arizona; Gila River Indian Community of the Gila River Indian Reservation, Arizona; Hopi Tribe of Arizona; Navajo Nation, Arizona, New Mexico & Utah; Pascua Yaqui Tribe of Arizona; Salt River Pima-Maricopa Indian Community of the Salt River Reservation, Arizona; San Carlos Apache Tribe of the San Carlos Reservation, Arizona; White Mountain Apache Tribe of the Fort Apache Reservation, Arizona; and the Zuni Tribe of the Zuni Reservation, New Mexico (hereafter referred to as “The Consulted Tribes”).

History and Description of the Remains

On July 7, 2009, human remains representing, at minimum, one individual were removed from a wash near the San Pedro River in San Manuel, Pinal County, AZ. The human remains were discovered in the base of a dried wash by a young man on a run that morning. Personnel from the Pinal County Sheriff's Office arrived on the scene, where they recovered and transported the recovered human remains to the Pinal County Medical Examiner's Office. On July 8, 2009, the Pinal County Medical Examiner, Dr. Rebecca Hsu, transferred the human remains to the Pima County Office of the Medical Examiner, to be examined by the Pima County Forensic Anthropologist, Dr. Bruce Anderson. According to Dr. Anderson, the human remains are of an adult individual of Native American ancestry, and are likely prehistoric. The human remains were designated case ML09-01398, and they have since resided in the PCOME as an unidentified, prehistoric case. No known individuals were identified. No associated funerary objects are present.

Although the human remains were not discovered at a known archeological site, the area where the human remains were recovered, near the San Pedro River and south of the Gila River, constitutes part of the core area of the Hohokam tradition. The Grewe-Casa Grande settlement complex on the middle Gila River is one of the largest Hohokam settlements in the prehistoric American Southwest. The classic period of Hohokam Culture (A.D. 1150-1450) is characterized by the aggregation of Hohokam villages into larger villages located primarily along the middle Gila and lower San Pedro Rivers where the human remains were discovered.

On December 15, 2010, human remains representing, at minimum, one individual were discovered near the San Pedro River in San Manuel, Pinal County, AZ. The human remains were discovered on the south bank of a wash by an unknown individual whom had been removing a tree on the wash bank. The human remains were recovered by personnel of the Pinal County Sherriff's Office and brought to the Pinal County Medical Examiner, Dr. Rebecca Hsu. On December 16, 2010, the human remains were transferred to the Pima County Office of the Medical Examiner to be examined by the Pima County Forensic Anthropologist, Dr. Bruce Anderson. According to Dr. Anderson, the human remains were prehistoric due to the condition of the remains, the dental wear, and the associated funerary objects. In addition, Dr. Anderson estimated the human remains to be a probable female 20 years old (+/− 3 years). The human remains were designated case ML10-02448, and have resided in the PCOME as an unidentified prehistoric case. No known individuals were identified. The 387 associated funerary objects are 387 conus shell beads.

The human remains were discovered near a site discovered along the San Pedro River, on part of the Johnny Rhodes' Sacaton Ranch, where a burial containing a possible necklace composed of conus shell beads had been found. Prehistoric ruins, as well as sherds of Gila Polychrome pottery and Tanque Verde Red-on Brown pottery were also discovered at the site. Sites along the lower San Pedro River are associated with the Classic Period (A.D. 1150-1450) of Hohokam Culture.

Determinations Made by the Pima County Office of the Medical Examiner

Officials of the Pima County Office of the Medical Examiner have determined that:

• Pursuant to 25 U.S.C. 3001(9), the human remains described in this notice represent the physical remains of two individuals of Native American ancestry.

• Pursuant to 25 U.S.C. 3001(3)(A), the 387 objects described in this notice are reasonably believed to have been placed with or near individual human remains at the time of death or later as part of the death rite or ceremony.

• Pursuant to 25 U.S.C. 3001(2), there is a relationship of shared group identity that can be reasonably traced between the Native American human remains and associated funerary objects and the Tohono O'odham Nation of Arizona.

Additional Requestors and Disposition

Lineal descendants or representatives of any Indian Tribe or Native Hawaiian organization not identified in this notice that wish to request transfer of control of these human remains and associated funerary objects should submit a written request with information in support of the request to Dr. Bruce Anderson, Forensic Anthropologist, Pima County Office of the Medical Examiner, 2825 E District Street, Tucson, AZ 85714, telephone (520) 724-8600, email bruce.anderson@pima.gov, by December 27, 2019. After that date, if no additional requestors have come forward, transfer of control of the human remains and associated funerary objects to the Tohono O'odham Nation of Arizona may proceed.

The Pima County Office of the Medical Examiner is responsible for notifying the Tohono O'odham Nation of Arizona and The Consulted Tribes that this notice has been published.

Dated: October 24, 2019.
Melanie O'Brien,
Manager, National NAGPRA Program.

[FR Doc. 2019-25732 Filed 11-26-19; 8:45 am]

BILLING CODE 4312-52-P